DEPARTMENT OF TRANSPORTATION

Office of the Secretary

Notice of Applications for Certificates of Public Convenience and Necessity and Foreign Air Carrier Permits Filed Under Subpart B (Formerly Subpart Q) During the Week Ending October 23, 2010

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2010-0262.

Date Filed: October 20, 2010.

Due Date for Answers, Conforming Applications, or Motion To Modify Scope: November 10, 2010.

Description: Application of Dynamic Airways, LLC d/b/a Dynamic Aviation requesting a certificate of public convenience and necessity authorizing Dynamic to engage in foreign charter air transportation of persons, property, and mail between any place in the United States and any place outside thereof.

Docket Number: DOT-OST-2010-0263.

Date Filed: October 20, 2010.

Due Date for Answers, Conforming Applications, or Motion To Modify Scope: November 10, 2010.

Description: Application of City Wings, Inc. requesting authority to operate scheduled passenger service as a commuter air carrier.

Docket Number: DOT-OST-2010-0264.

Date Filed: October 22, 2010.

Due Date for Answers, Conforming Applications, or Motion To Modify Scope: November 15, 2010.

Description: Application of Whitejet Transportes Aereos Ltda requesting a foreign air carrier permit and exemption authority to engage in charter foreign air transportation of persons, property and mail between any point or points in the United States and any point or points in Brazil to the full extent authorized by Air Transport Agreement between the Government of the United States of America and the Government of the Federative Republic of Brazil.

Renee V. Wright,
Program Manager, Docket Operations, Federal Register Liaison.

[FR Doc. 2010-31716 Filed 12-16-10; 8:45 am]

BILLING CODE 4910-9X-P